DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Northwest Region Logbook Family of Forms.

Form Number(s): None.

OMB Approval Number: 0648-0271.

Type of Request: Regular submission.

Burden Hours: 1,374.

Number of Respondents: 70.

Average Hours Per Response: Daily fishing and cumulative production log: Catchers, 13 minutes; catcher-processors, 26 minutes; daily report of fish received and cumulative production log, 13 minutes; processor weekly/daily production report, 4 minutes; product transfer/offloading log, 1 minute; and activity start/stop notifications, 1 minute.

Needs and Uses: This data collection requires the submission and preparation of logbooks and reports on the Pacific Coast Groundfish Fishery from processing vessels larger than 125 feet in length and from catcher vessels that deliver to them. The information is necessary to monitor catch, effort, and production for fishery management purposes.

Affected Public: Business or other for-profit organizations; State, Local or Tribal Government.

Frequency: Weekly, quarterly and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 6, 2006.
Gwellnar Banks,
Management Analyst, Office of the Chief Information Officer.

[FR Doc. E6-10904 Filed 7-11-06; 8:45 am]

BILLING CODE 3510-22-P